DEPARTMENT OF TRANSPORTATION

Federal Aviation Administration

[Docket No. 2120-0671]

Agency Information Collection Activities: Request for Renewal of a Previously Approved Information Collection(s): Safety Management Systems for Part 121 Certificate Holders

AGENCY: Federal Aviation Administration (FAA), DOT.

ACTION: Notice and request for comments.

SUMMARY: In accordance with the Paperwork Reduction Act of 1995, FAA invites public comments about our intention to request the Office of Management and Budget (OMB) approval to renew an information collection used to support the analysis of safety data as part of Safety Management Systems required for part 121 certificate holders. The information to be collected will be used to identify hazards and show ongoing compliance with part 5, Safety Management Systems. All collected data and records are maintained by the certificate holders and not submitted to the FAA.

DATES: Written comments should be submitted by February 8, 2021.

ADDRESSES: Please send written comments:

By Electronic Docket: www.regulations.gov (Enter docket number into search field).

By Mail: Docket Management Facility, U.S. Department of Transportation, 1200 New Jersey Avenue SE, West Building, Room W12-140, Washington, DC 20590, between 9 a.m. and 5 p.m.

By Fax: 202-493-2251.

FOR FURTHER INFORMATION CONTACT: Sean Denniston, Safety Management Program Office (AFS-910), by email at: sean.denniston@faa.gov or by phone: 202-267-1493.

SUPPLEMENTARY INFORMATION:

Public Comments Invited: You are asked to comment on any aspect of this information collection, including (a) Whether the proposed collection of information is necessary for FAA's performance; (b) the accuracy of the estimated burden; (c) ways for the FAA to enhance the quality, utility and clarity of the information collection; and (d) ways that the burden could be minimized without reducing the quality of the collected information. The agency will summarize and/or include your comments in the request for OMB's clearance of this information collection.

OMB Control Number: 2120-0763.

Title: Safety Management Systems for Part 121.

Form Numbers: None.

Type of Review: Renewal of an Information Collection with changes.

Background: The information collection involves the collection and analysis of safety data as part of a Safety Management System (SMS), as required for Part 121 certificate holders by 14 CFR Part 5, Safety Management Systems. The information to be collected will continue to be used to identify hazards and show compliance with Part 5.

The existing information collection included the submission of SMS Implementation Plans to the FAA by March 9, 2018. That portion of the information collection has been completed and only new applicants for a Part 121 certificate will be required to submit SMS Implementation Plans in the future. While the burden for existing Part 121 certificate holders is significantly reduced, it is anticipated there will be some ongoing recordkeeping requirements for Part 5 compliance.

The FAA previously published a 60-Day Federal Register Notice on June 20, 2018 (83 FR 28758) and a 30-Day Federal Register Notice on September 17, 2018 (83 FR 46990). The FAA did not receive any comments on either notice. Since the 60-Day and 30-Day notices there have been changes to the original request. The current number of Part 121 certificate holders in 2020 is 68 compared to 90 in 2015. The 68 Part 121 certificate holders implemented a Safety Management System by the March 9, 2018 Part 5 deadline. The burden analysis has been revised reflecting Part 121 SMS implementation, revised industry numbers, and analysis of post-implementation recordkeeping.

Respondents: All 68 existing Part 121 certificate holders.

Frequency: Implementation plan collection: 1 future applicant for Part 121 certificate (anticipating no more than one new applicant a year). Recordkeeping requirement: Annual recordkeeping requirements for all 68 existing Part 121 certificates.

Estimated Average Burden per Response:

Air carrier groups | Number of air carriers
Part 121 Certificate Holders
Large (50+ aircraft) | 25
Medium (10-49 aircraft) | 19
Small (<9 aircraft) | 24
Number of Operators | 68

Respondents:

Summary (annual numbers) | Reporting | Recordkeeping | Disclosure
Large and Medium Air Carrier
Number of Respondents |  | 44 | N/A
Number of Responses per respondent |  | 1 | N/A
Time per Response |  | 2,000 | N/A
Total number of responses |  | 44 | N/A
Total burden (hours) |  | 99,440 | N/A

Summary (annual numbers) | Reporting | Recordkeeping | Disclosure
Small Air Carrier
Number of Respondents |  | 24 | N/A
Number of Responses per respondent |  | 1 | N/A
Time per Response |  | 1,000 | N/A
Total number of responses |  | 24 | N/A
Total burden (hours) |  | 24,000 | N/A

Estimated annual collection activity for one new medium Part 121 air carrier.

Summary (annual numbers) | GAP analysis | Implementation plan | SMS
Medium Air Carrier
Number of Respondents |  | 1 |
Number of Responses per respondent |  | 1 |
Time per Response |  | 2,732 |
Total number of responses |  | 1 |
Total burden (hours) |  | 2,732 |

Estimated Total Annual Burden:

Total annual burden for existing Part 121 certificate holders 123,400 hours.

Total annual burden for new Part 121 certificate applicant 2,732 hours.

Issued in Washington, DC.
Robert C. Carty,
Deputy Executive Director, Flight Standards Service.

[FR Doc. 2020-27000 Filed 12-8-20; 8:45 am]

BILLING CODE 4910-13-P